DEPARTMENT OF DEFENSE

Department of the Army

Final Environmental Assessment (EA) for BRAC 95 Disposal and Reuse of Fort Hunter Liggett, California

AGENCY: Department of the Army, DoD.

ACTION: Notice of Availability.

SUMMARY: Fort Hunter Liggett will be realigned in accordance with the recommendations of the Base Closure and Realignment Commission, mandated by Defense Base Closure and Realignment Act of 1990, Public Law 101-510, as amended (the “BRAC law”).

Under the BRAC law, the Secretary of the Army has the authority to dispose of excess real property and facilities located at a military installation recommended for closure or realignment. The Army prepared an EA pursuant to the National Environmental Policy Act of 1969 to assess the environmental effects of disposal and reuse of the entire installation and reasonable alternatives.

The EA analyzed two alternative courses of action with respect to the surplus property at Fort Hunter Liggett: The no action alternative, under which the property would be placed in indefinite caretaker status, and the encumbered disposal alternative, under which the Army would transfer the property with encumbrances. Additionally, this EA analyzed the potential environmental and socioeconomic consequences of proposed reutilization of excess lands and facilities at Fort Hunter Liggett. The proposed reuses are similar to those for which the property is currently utilized.

The EA concluded that the no action alternative is not reasonable since BRAC law mandates the realignment of Fort Hunter Liggett and retention of only minimum essential facilities and land to support Reserve Component training. The EA also concluded that the encumbered disposal alternative is the only feasible alternative,

The Army's preferred alternative course of action is the encumbered disposal of excess property at Fort Hunter Liggett. Potential encumbrances that could be expected to apply at the time of property transfer include: Continued Army utility easements and rights-of-way, Army access to conduct remedial activities, and notifications concerning properties that possess asbestos-containing materials and lead-based paints.

DATES: Comments must be submitted on or before November 1, 2000.

ADDRESSES: A copy of the Final EA may be obtained by writing to Dr. Neil Robison, U.S. Army Corps of Engineers, U.S. Army Engineer District, Mobile (CESAM-PD), 109 St. Joseph Street, Mobile, AL 36602.

FOR FURTHER INFORMATION CONTACT: Dr. Neil Robison, U.S. Army Corps of Engineers, Mobile District, phone (334) 690-3018 and telefax (334) 690-2605.

SUPPLEMENTARY INFORMATION: The Army analyzed the reuse of Fort Hunter Liggett property in the EA by two federal agencies, the Department of the Navy and the National Park Service.

The Notice of Intent to prepare an EA for the Fort Hunter Liggett BRAC realignment was published in the Federal Register on January 28, 1999 (64 FR 4399). Based upon the analysis of the environmental effects of the proposed realignment of Fort Hunter Liggett found in the EA, it has been determined that the implementation of this realignment action would have no significant impacts on the quality of the natural or human environment. Because no significant environmental impacts would result from implementation of the proposed action, an Environmental Impact Statement is not required. Implementation of the proposed action will result in a Finding of No Signficiant Impact (FNSI).

Prior to initiating the above action, the Army will consider the comments received on this EA.

A copy of the final EA is available for review at the Monterey County Library, King City Branch, King City, CA.

Dated: September 26, 2000.
Richard E. Newsome,
Acting Deputy Assistant Secretary of the Army (Environment, Safety and Occupational Health) OASA (I&E).

[FR Doc. 00-25105 Filed 9-29-00; 8:45 am]

BILLING CODE 3710-08-M